DEPARTMENT OF COMMERCE

Foreign-Trade Zones Board

[Order No. 1204]

Expansion of Foreign-Trade Zone 29;Louisville, KY, Area

Pursuant to its authority under the Foreign-Trade Zones Act of June 18, 1934, as amended (19 U.S.C. 81a-81u), the Foreign-Trade Zones Board (the Board) adopts the following Order:

Whereas, the Louisville and Jefferson County Riverport Authority, grantee of Foreign-Trade Zone 29, submitted an application to the Board for authority to include an additional site at the Cedar Grove Business Park (Site 6) in Bullitt County, Kentucky, adjacent to the Louisville Customs port of entry (FTZ Docket 23-2001; filed 6/7/01);

Whereas, notice inviting public comment was given in the Federal Register (66 FR 32599, 6/15/01) and the application has been processed pursuant to the FTZ Act and the Board's regulations; and

Whereas, the Board adopts the findings and recommendations of the examiner's report, and finds that the requirements of the FTZ Act and the Board's regulations are satisfied, and that the proposal is in the public interest;

Now, therefore, the Board hereby orders:

The application to expand FTZ 29 is approved, subject to the Act and the Board's regulations, including Section 400.28, and further to the Board's standard 2,000-acre activation limit for the overall zone project.

Signed at Washington, DC, this 15th day of January 2002.
Faryar Shirzad,
Assistant Secretary of Commerce for Import Administration, Alternate Chairman, Foreign-Trade Zones Board.

[FR Doc. 02-2255 Filed 1-29-02; 8:45 am]

BILLING CODE 3510-DS-P